DEPARTMENT OF TRANSPORTATION

Federal Aviation Administration

14 CFR Part 71

[Docket No. FAA-2024-2588; Airspace Docket No. 24-AGL-17]

RIN 2120-AA66

Amendment of Jet Routes J-26, J-64 and J-181, and VOR Federal Airways V-10 and V-156; and Revocation of VOR Federal Airway V-262 in the Vicinity of Bradford, IL

AGENCY: Federal Aviation Administration (FAA), DOT.

ACTION: Final rule.

SUMMARY: This action amends Jet Routes J-26, J-64, and J-181, and Very High Frequency Omnidirectional Range (VOR) Federal Airways V-10 and V-156; and revokes VOR Federal Airway V-262. The FAA is taking this action due to the planned decommissioning of the VOR portion of the Bradford, IL (BDF), VOR/Tactical Air Navigation (VORTAC) navigational aid (NAVAID). The Bradford VOR is being decommissioned in support of the FAA's VOR Minimum Operational Network (MON) program.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published an NPRM for Docket No. FAA-2024-2588 in the Federal Register (89 FR 97572; December 9, 2024), proposing to amend Jet Routes J-26, J-64, and J-181, and VOR Federal Airways V-10 and V-156; and revoke VOR Federal Airway V-262 due to the planned decommissioning of the VOR portion of the Bradford, IL, VORTAC NAVAID. Interested parties were invited to participate in this rulemaking effort by submitting written comments on the proposal. No comments were received.

Incorporation by Reference

Jet Routes are published in paragraph 2004 and VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 by amending Jet Routes J-26, J-64, and J-181, and VOR Federal Airways V-10 and V-156; and revoking VOR Federal Airway V-262 due to the planned decommissioning of the VOR portion of the Bradford, IL, VORTAC NAVAID. The Air Traffic Service (ATS) route actions are described below.

J-26: Prior to this final rule, J-26 extended between the Ciudad Juarez, Mexico, VOR/Distance Measuring Equipment (VOR/DME) and the Joliet, IL, VOR/DME. The airspace within Mexico was excluded. The route segment between the Kirksville, MO, VORTAC and the Joliet VOR/DME is removed. As amended, the route is changed to now extend between the Ciudad Juarez, Mexico, VOR/DME and the Kirksville VORTAC. The airspace within Mexico remains excluded.

J-64: Prior to this final rule, J-64 extended between the Los Angeles, CA, VORTAC and the Hill City, KS, VORTAC; and between the Lamoni, IA, VOR/DME and the intersection of the Ravine, PA, VORTAC 102° and Lancaster, PA, VOR/DME 044° radials (SARAA Fix). The route segment between the Lamoni VOR/DME and the Fort Wayne, IN, VORTAC is removed. As amended, the route is changed to now extend between the Los Angeles VORTAC and the Hill City VORTAC, and between the Fort Wayne VORTAC and the intersection of the Ravine VORTAC 102° and Lancaster VOR/DME 044° radials (SARAA Fix).

J-181: Prior to this final rule, J-181 extended between the Ranger, TX, VORTAC and the Okmulgee, OK, VOR/DME; and between the Hallsville, MO, VORTAC and the Bradford, IL, VORTAC. The route segment between the Hallsville VORTAC and the Bradford VORTAC is removed. As amended, the route is changed to now extend between the Ranger VORTAC and the Okmulgee VOR/DME.

V-10: Prior to this final rule, V-10 extended between the Pueblo, CO, VORTAC and the intersection of the Bradford, IL, VORTAC 058° and Joliet, IL, VOR/DME 287° radials (PLANO Fix); and between the intersection of the Chicago Heights, IL, VORTAC 358° and Gipper, MI, VORTAC 271° radials (NILES Fix) and the Gipper VORTAC. The airway segment between the Burlington, IA, VOR/DME and the intersection of the Bradford VORTAC 058° and Joliet VOR/DME 287° radials (PLANO Fix) is removed. Additionally, the legacy airway floor altitude information in the description between the Pueblo VORTAC and the Lamar, CO, VOR/DME route points is removed. As amended, the airway is changed to now extend between the Pueblo VORTAC and the Burlington VOR/DME, and between the intersection of the Chicago Heights VORTAC 358° and Gipper VORTAC 271° radials (NILES Fix) and the Gipper VORTAC.

V-156: Prior to this final rule, V-156 extended between the Cedar Rapids, IA, VOR/DME and the Peotone, IL, VORTAC. The airway segment between the Moline, IL, VOR/DME and the Peotone VORTAC is removed. As amended, the airway is changed to now extend between the Cedar Rapids VOR/DME and the Moline VOR/DME.

V-262: Prior to this final rule, V-262 extended between the Peoria, IL, VORTAC and the Joliet, IL, VOR/DME. The airway is removed in its entirety.

All NAVAID radials listed in the ATS route descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending Jet Routes J-26, J-64, and J-181, and VOR Federal Airways V-10 and V-156; and revoking VOR Federal Airway V-262 due to the planned decommissioning of the VOR portion of the Bradford, IL, VORTAC NAVAID, qualifies for categorical exclusion under the National Environmental Policy Act (42 U.S.C. 4321, et seq.) and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-26 [Amended]

From Ciudad Juarez, Mexico; El Paso, TX; INT El Paso 070° and Chisum, NM, 215° radials; Chisum; Panhandle, TX; Mitbee, OK; Wichita, KS; Kansas City, MO; to Kirksville, MO. The airspace within Mexico is excluded.

* * * * *

J-64 [Amended]

From Los Angeles, CA; INT Los Angeles 083° and Hector, CA, 226° radials; Hector; Peach Springs, AZ; Tuba City, AZ; Rattlesnake, NM; Pueblo, CO; to Hill City, KS. From Fort Wayne, IN; Ellwood City, PA; Ravine, PA; to INT Ravine 102° and Lancaster, PA, 044° radials.

* * * * *

J-181 [Amended]

From Ranger, TX; to Okmulgee, OK.

* * * * *

Paragraph 6010(a) Domestic VOR Federal Airways.

* * * * *

V-10 [Amended]

From Pueblo, CO; Lamar, CO; Garden City, KS; Dodge City, KS; Hutchinson, KS; Emporia, KS; INT Emporia 063° and Napoleon, MO, 243° radials; Napoleon; Kirksville, MO; to Burlington, IA. From INT Chicago Heights, IL, 358° and Gipper, MI, 271° radials; to Gipper.

* * * * *

V-156 [Amended]

From Cedar Rapids, IA; to Moline, IL.

* * * * *

V-262 [Removed]

* * * * *

Issued in Washington, DC, on May 12, 2025.
Brian Eric Konie,
Manager (A), Rules and Regulations Group.

[FR Doc. 2025-08738 Filed 5-15-25; 8:45 am]

BILLING CODE 4910-13-P